DEPARTMENT OF THE INTERIOR

Bureau of Land Management

[ES-030-1430-00; ES-50582, Group 547, Minnesota]

Notice of Filing of Plat of an Island; Minnesota, Suspended

On Tuesday, January 18, 2000, there was published in the Federal Register, Volume 5, Number 11, on page 2640, a notice entitled, “Notice of Filing of Plat of an Island; Minnesota.” Said notice referenced the filing of the plat of the survey of an island in Cedar Lake, Township 117 North, Range 30 West, Fifth Principal Meridian, Minnesota, accepted on January 6, 2000.

This plat officially filed on February 22, 2000, is hereby suspended pending the consideration of a protest against the survey.

Dated: March 7, 2000.
Stephen G. Kopach,
Chief Cadastral Surveyor.

[FR Doc. 00-6586 Filed 3-16-00; 8:45 am]

BILLING CODE 4310-GJ-P